DEPARTMENT OF JUSTICE

Antitrust Division

United States v. Bell Atlantic Corporation; Proposed Modification of Final Judgment

Notice is hereby given that a Motion to Modify the Final Judgment, Stipulation, and Memorandum in Support of the Motion to Modify the Final Judgment, have been filed with the United States District Court for the District of Columbia in United States v. Bell Atlantic Corporation, Civil No. 1 :99CV0 1119. On May 7, 1999, the United States filed a Complaint (and a Supplemental Complaint on December 6, 1999) alleging that the proposed merger between Bell Atlantic Corporation and GTE Corporation (the merged firm known as “Verizon Communications Inc.”) and the proposed joint venture between Bell Atlantic and Vodafone AirTouch Plc (the joint venture now known as “Verizon Wireless”) would violate Section 7 of the Clayton Act, 15 U.S.C. 18, by substantially lessening competition in wireless mobile telephone service in certain areas of Alabama, Arizona, California, Florida, Idaho, Illinois, Indiana, Montana, New Mexico, Ohio, South Carolina, Texas, Virginia, Washington, and Wisconsin.

The Final Judgment, entered on April 18, 2000, required the defendants to divest certain mobile wireless telecommunications services businesses. Divestitures were made to Ailtel in 25 Cellular Market Areas (“CMAs”). The modification would allow the defendants to reacquire the divested wireless system assets in 22 of those CMAs—Cleveland MSA (CMA 16), Tampa MSA (CMA 22), Phoenix MSA (CMA 26), Akron MSA (CMA 52), Greenville SC MSA (CMA 67), Tucson MSA (CMA 77), El Paso TX MSA (CMA 81), Mobile MSA (CMA 83), Albuquerque MSA (CMA 86), Canton MSA (CMA 87), Lakeland MSA (CMA 114), Pensacola MSA (CMA 127), Lorain MSA (CMA 136), Ft. Myers MSA (CMA 164), Sarasota MSA (CMA 167), Bradenton MSA (CMA 211), AZ RSA 2 (CMA 319), FL RSA 1 (CMA 360), FL RSA 2 (CMA 361), FL RSA 3 (CMA 362), FL RSA 4 (CMA 363), and FL RSA 11 (CMA 370). The modification would allow the defendants to reacquire three additional CMAs—Anderson SC MSA (CMA 227), Las Cruces NM MSA (CMA 285) and OH RSA 3 (CMA 587)—only until the assets are divested according to terms specified in the Modified Final Judgment.

Copies of the Motion to Modify the Final Judgment, Stipulation, Memorandum in Support of the Motion to Modify the Final Judgment, and all other papers with the Court in connection with the motion are available for inspection at the Department of Justice, Antitrust Division, Antitrust Documents Group, 450 Fifth Street, NW., Suite 1010, Washington, DC 20530 (202-514-2481), on the Department of Justice Web site (http://www.usdoj.gov/atr), and at the Office of the Clerk of the United States District Court for the District of Columbia. Copies of these materials may be obtained from the Antitrust Division upon request and payment of the copying fee set by Department of Justice Regulations. Public comment is invited within 30 days of the date of this notice. Such comments, and responses thereto, will be published in the Federal Register and filed with the Court. Comments should be directed to Nancy Goodman, Chief, Telecommunications & Media Enforcement Section, Antitrust Division, U.S. Department of Justice, City Center Building, 1401 H Street, NW., Suite 8000, Washington, DC 20530 (202-514-5621).

J. Robert Kramer II,
Director of Operations, Antitrust Division.

[FR Doc. E8-26563 Filed 11-10-08; 8:45 am]

BILLING CODE 4410-11-M